NUCLEAR REGULATORY COMMISSION

[Docket No. 70-0036; NRC-2009-0278]

Environmental Assessment and Finding of No Significant Impact for a License Amendment to Materials License No. SNM-33; Westinghouse Electric Company, LLC, Hematite Decommissioning Project, Hematite, MO

AGENCY: Nuclear Regulatory Commission.

ACTION: Notice of availability; correction.

SUMMARY: The U.S. Nuclear Regulatory Commission (NRC) is correcting a notice appearing in the Federal Register on September 29, 2011 (76 FR 60557), that noticed the availability of the Environmental Assessment (EA) and Finding of No Significant Impact for a materials license amendment submitted by Westinghouse Electric Company, LLC, Hematite Decommissioning Project. This action is necessary to correct the NRC's Agencywide Documents Access and Management System (ADAMS) accession number for the EA contained in Section II, “EA Summary,” and Section IV, “Further Information”.

FOR FURTHER INFORMATION CONTACT: John J. Hayes, Senior Project Manager, Decommissioning and Uranium Recovery Licensing Directorate, Division of Waste Management and Environmental Protection, Office of Federal and State Materials and Environmental Management Programs, U.S. Nuclear Regulatory Commission, Washington, DC 20555; telephone: (301) 415-5928, email: John.Hayes@nrc.gov.

SUPPLEMENTARY INFORMATION: On page 60558 of the Federal Register published September 29, 2011 (76 FR 60557), in the second column, fifteenth line, “ML111020620” is corrected to read “ML112101726”. On page 60559 of the same document, in the second column of the table appearing at the top of the page “ML111020620” is corrected to read “ML112101726”.

Dated at Rockville, Maryland, this 21st day of October, 2011.
For the Nuclear Regulatory Commission.
Lydia Chang,
Acting Deputy Director, Decommissioning and Uranium Recovery Licensing Directorate, Division of Waste Management and Environmental Protection, Office of Federal and State Materials and Environmental Management Programs.

[FR Doc. 2011-28073 Filed 10-28-11; 8:45 am]

BILLING CODE 7590-01-P